DEPARTMENT OF TRANSPORTATION

Pipeline and Hazardous Materials Safety Administration

49 CFR Parts 191, 192, and 195

[Docket No. PHMSA-2025-0034; Amdt. Nos. 191-34; 192-139; 195-108]

RIN 2137-AF72

Pipeline Safety: Editorial Change To Reflect the Name Change of the Gulf of Mexico to the Gulf of America

AGENCY: Pipeline and Hazardous Materials Safety Administration (PHMSA), Department of Transportation (DOT).

ACTION: Final rule.

SUMMARY: As directed by the Executive order of January 20, 2025, “Restoring Names that Honor American Greatness,” PHMSA is amending its regulations to change the name of the body of water known previously as the “Gulf of Mexico” to the “Gulf of America.”

DATES: This rule is effective May 20, 2025.

FOR FURTHER INFORMATION CONTACT: Alyssa Imam, Transportation Specialist, by phone at 202-738-3850 or by email at alyssa.imam@dot.gov.

SUPPLEMENTARY INFORMATION:

I. Executive Summary

II. Background and Justification

III. Summary of Amendments

IV. Regulatory Analyses and Notices

A. Statutory/Legal Authority for Rulemaking

B. Executive Order 12866: Regulatory Planning and Review

C. Executive Order 14219: Unleashing Prosperity Through Deregulation

D. Executive Order 13132: Federalism

E. Regulatory Flexibility Act

F. Executive Order 13175: Consultation and Coordination With Indian Tribal Governments

G. Paperwork Reduction Act

H. Unfunded Mandates Reform Act of 1995

I. National Environmental Policy Act

J. Executive Order 13211: Significant Energy Actions

K. Executive Order 13609: International Trade Analysis

L. Privacy Act Statement

M. Regulation Identifier Number (RIN)

I. Executive Summary

This final rule amends the Pipeline Safety Regulations (PSR) in 49 Code of Federal Regulations (CFR) parts 186 through 199 to replace the phrase “Gulf of Mexico” with “Gulf of America” in response to Executive Order 14172, “Restoring Names That Honor American Greatness.” This nomenclature change imposes no new or revised requirements for regulated entities.

II. Background

On January 20, 2025, the President signed Executive Order (E.O.) 14172, “Restoring Names That Honor American Greatness.” ¹ Among other actions, this Executive Order required the Secretary of the Interior to “take all appropriate actions to rename as the `Gulf of America' the U.S. Continental Shelf area bounded on the northeast, north, and northwest by the State of Texas, Louisiana, Mississippi, Alabama, and Florida and extending to the seaward boundary with Mexico and Cuba in the area formerly named as the Gulf of Mexico.”

¹ “Executive Order 14172: Restoring Names That Honor American Greatness,” 90 FR 8629 (Jan. 20, 2025).

On February 7, 2025, the Secretary of the Interior signed Secretary's Order 3423, “The Gulf of America.” ² In Order 3423, the Secretary of the Interior directed the U.S. Board on Geographic Names (BGN) to rename immediately the Gulf of Mexico as the Gulf of America. The BGN complied with the Secretary of the Interior's directive shortly thereafter.

² Secretary of the Interior, “Secretary's Order 3423: The Gulf of America” (Feb. 7, 2025).

Consistent with E.O. 14172, PHMSA is amending its PSR in 49 CFR parts 186 through 199 to replace the phrase “Gulf of Mexico” with “Gulf of America.” These amendments are consistent with the actions taken by BGN and other Federal agencies. See, e.g., the Gulf of America Renaming final rule posted by the United States Coast Guard on March 17, 2025.³

³ Coast Guard, “Final Rule: Gulf of America Renaming,” 90 FR 12235 (Mar. 17, 2025).

PHMSA finds that this final rule contains conforming amendments involving agency practice that are exempt from the notice and comment rulemaking requirements in 5 U.S.C. 553(b)(A). PHMSA also finds good cause exists under 5 U.S.C. 553(b)(B) for forgoing notice and comment because this final rule imposes no substantive changes on the public's rights or obligations and will be inconsequential in impact. This is a conforming amendment to align our regulations with the current name of the Gulf. Therefore, notice and comment are unnecessary.

For the same reasons, PHMSA finds good cause exists under 5 U.S.C. 553(d)(3) to make the rule effective fewer than 30 days after publication in the Federal Register. Delaying the effective date of the rule is unnecessary because updating the name used in the PSR to identify the body of water is inconsequential to the public and the name has already been adopted by Executive Order and by the Department of Interior.

III. Summary of Amendments

PHMSA is amending the PSR in 49 CFR parts 186 through 199 to reflect the name change for the Gulf of America. This amendment is an editorial change in nomenclature that has no effect on the scope of Federal PSR and requires no action by operators to comply. The Gulf of America includes any waters identified as the Gulf of Mexico in legacy statutes, regulations, plans, or procedures, as applicable. PHMSA does not require operators to update plans, procedures, maps, or other materials that reference the Gulf of Mexico to implement this final rule; however, operators should consider appropriate updates during periodic review of such materials.

IV. Regulatory Analyses and Notices

A. Statutory/Legal Authority for Rulemaking

This final rule is published under the authority of the Secretary of Transportation delegated to the PHMSA Administrator pursuant to 49 CFR 1.97. Among the statutory authorities delegated to PHMSA are those set forth in the Federal Pipeline Safety Statutes (49 U.S.C. 60101 et seq.) (authorizing, inter alia, issuance of regulations governing design, installation, inspection, emergency plans and procedures, testing, construction, extension, operation, replacement, and maintenance of pipeline facilities) and section 28 of the Mineral Leasing Act, as amended (30 U.S.C. 185(w)(3)). For a complete listing of authorities, see 49 CFR 1.97.

B. Executive Order 12866: Regulatory Planning and Review

This final rule is not a significant regulatory action under E.O. 12866 (“Regulatory Planning and Review”) ⁴ and DOT Order 2100.6B (“Rulemaking and Guidance Procedures”) and, therefore, was not subject to review by the Office of Management and Budget. In this final rule, PHMSA is revising the nomenclature for referring to the Gulf of America. This action is not intended to result in any costs or benefits.

⁴ 58 FR 51753 (Oct. 4, 1993).

C. Executive Order 14192: Unleashing Prosperity Through Deregulation

This final rule is not a deregulatory action pursuant to E.O. 14192 (“Unleashing Prosperity Through Deregulation”) because it does not have total costs less than zero. This final rule is not an E.O. 14192 regulatory action because it is neither a significant regulatory action as defined in Section 3(f) of E.O. 12866, nor does it impose costs greater than zero. Therefore, this final rule does not implicate the requirement to repeal or revise at least 10 existing regulations for each regulation issued.⁵

⁵ 90 FR 9065 (Feb. 6, 2025); Office of Management and Budget, Memorandum M-25-20 (Mar. 26, 2025), available at https://www.whitehouse.gov/wp-content/uploads/2025/02/M-25-20-Guidance-Implementing-Section-3-of-Executive-Order-14192-Titled-Unleashing-Prosperity-Through-Deregulation.pdf.

D. Regulatory Flexibility Act

Under the Regulatory Flexibility Act (5 U.S.C. 601 et seq.), PHMSA must consider whether rulemaking actions would have a significant economic impact on a substantial number of small entities. This final rule imposes no new obligations on pipeline operators or anyone else. PHMSA concludes this rule does not have a significant economic impact on any small entity. Based on the facts available about the expected impact of this rulemaking, PHMSA certifies, under section 605 of the Regulatory Flexibility Act (5 U.S.C. 605) that this rulemaking will not have a significant economic impact on a substantial number of small entities.

E. Executive Order 13175: Consultation and Coordination With Indian Tribal Governments

PHMSA has analyzed this direct final rule according to E.O. 13175 (“Consultation and Coordination with Indian Tribal Governments”) ⁶ and DOT Order 5301.1A (“Department of Transportation Tribal Consultation Policies and Procedures”). Because this final rule does not significantly or uniquely affect the communities of the Indian tribal governments or impose substantial direct compliance costs, the funding and consultation requirements of E.O. 13175 do not apply.

⁶ 65 FR 67249 (Nov. 6, 2000).

F. Paperwork Reduction Act

This final rule does not impose any new information collection requirements.

G. Unfunded Mandates Reform Act of 1995

This final rule does not impose unfunded mandates under the Unfunded Mandates Reform Act of 1995. It does not result in costs of $100 million or more to either State, local, or tribal governments, in the aggregate, or to the private sector, adjusted for inflation, and is least burdensome alternative that achieves the objective of the rulemaking.

H. National Environmental Policy Act

The National Environmental Policy Act of 1969 (NEPA), as amended (42 U.S.C. 4321-4347), requires Federal agencies to consider the consequences of major Federal actions and prepare a detailed statement on any action significantly affecting the quality of the human environment. Since this rule makes no changes to operators' obligations under the PSR, this action will not result in any significant impacts on the environment.

I. Executive Order 13132: Federalism

PHMSA has analyzed this final rule according to E.O. 13132 (“Federalism”).⁷ The direct final rule does not have a substantial direct effect on the States, the relationship between the National Government and the States, or the distribution of power and responsibilities among the various levels of government. This final rule does not impose substantial direct compliance costs on State and local governments. This final rule does not preempt State law for intrastate pipelines. Therefore, the consultation and funding requirements of E.O. 13132 do not apply.

⁷ 64 FR 43255 (Aug. 10, 1999).

J. Energy-Related Executive Orders 13211, 14154, and 14156

Transporting gas, hazardous liquids, and carbon dioxide impacts the Nation's available energy supply. However, this final rule is not a “significant” energy action under E.O. 13211 (“Actions Concerning Regulations That Significantly Affect Energy Supply, Distribution, or Use”).⁸ It also is not a significant regulatory action under E.O. 12866 and is therefore not likely to have a significant adverse effect on the supply, distribution, or use of energy for purposes of the requirements of Executive Orders 14156 (“Declaring a National Energy Emergency”) ⁹ and 14154 (“Unleashing American Energy”).¹⁰ Further, the Administrator of the Office of Information and Regulatory Affairs is not likely to identify this direct final rule as a significant energy action.

⁸ 66 FR 28355 (May 18, 2001).

⁹ 90 FR 10583 (Feb. 25, 2025).

¹⁰ 90 FR 9065 (Feb. 6, 2025).

K. Privacy Act Statement

Anyone may search the electronic form of all comments received for any of our dockets. You may review DOT's complete Privacy Act Statement in the Federal Register published on April 11, 2000 (65 FR 19477), or you may visit https://www.transportation.gov/privacy.

L. Regulation Identifier Number (RIN)

A regulation identifier number (RIN) is assigned to each regulatory action listed in the Unified Agenda of Federal Regulations. The Regulatory Information Service Center publishes the Unified Agenda in April and October of each year. The RIN number contained in the heading of this document can be used to cross-reference this action with the Unified Agenda.

M. Executive Order 13609: International Trade Analysis

E.O. 13609 (“Promoting International Regulatory Cooperation”) ¹¹ requires that agencies consider whether the impacts associated with significant variations between domestic and international regulatory approaches are unnecessary or may impair the ability of American business to export and compete internationally. In meeting shared challenges involving health, safety, labor, security, environmental, and other issues, international regulatory cooperation can identify approaches that are at least as protective as those that are or would be adopted in the absence of such cooperation. International regulatory cooperation can also reduce, eliminate, or prevent unnecessary differences in regulatory requirements.

¹¹ 77 FR 26413 (May 4, 2012).

PHMSA participates in the establishment of international standards to protect the safety of the American public, and it has assessed the effects of the action to ensure that it does not cause unnecessary obstacles to foreign trade. Accordingly, this rulemaking is consistent with E.O. 13609.

List of Subjects

49 CFR Part 191

Incident, Notifications.

49 CFR Part 192

Definitions, Natural gas, Pipeline safety.

49 CFR Part 195

Anhydrous ammonia, Carbon dioxide, Definitions, Petroleum, Pipeline safety.

For the reasons provided in the preamble, PHMSA amends 49 CFR parts 191, 192, and 195 as follows:

PART 191—TRANSPORTATION OF NATURAL AND OTHER GAS BY PIPELINE; ANNUAL, INCIDENT, AND OTHER REPORTING

1. The authority citation for 49 CFR part 191 continues to read as follows:

Authority: 30 U.S.C. 185(w)(3), 49 U.S.C. 5121, 60101 et. seq., and 49 CFR 1.97.

§ 191.1 [Amended]

2. In § 191.1(c)(3), remove the words “Gulf of Mexico” and add, in their place, “Gulf of America.”

PART 192—TRANSPORTATION OF NATURAL AND OTHER GAS BY PIPELINE: MINIMUM FEDERAL SAFETY STANDARDS

3. The authority citation for 49 CFR part 192 continues to read as follows:

Authority: 30 U.S.C. 185(w)(3), 49 U.S.C. 5103, 60101 et. seq., and 49 CFR 1.97.

§ § 192.1, 192.319, 192.327, and 192.612 [Amended]

4. In part 192, remove the words “Gulf of Mexico” and add, in their place, “Gulf of America” in the following places:

a. Section 192.1(b)(4)(iii);

b. Section 192.319(c);

c. Section 192.327(f) introductory text and (g); and

d. The heading of § 192.612 and § 192.612(a) and (b).

5. In § 192.3:

a. Remove the definition of “Gulf of Mexico and its inlets”; and

b. Add the definition of “Gulf of America and its inlets” in alphabetical order.

The addition reads as follows:

§ 192.3 Definitions.

* * * * *

Gulf of America and its inlets means the waters from the mean high water mark of the coast of the Gulf of America and its inlets open to the sea (excluding rivers, tidal marshes, lakes, and canals) seaward to include the territorial sea and Outer Continental Shelf to a depth of 15 feet (4.6 meters), as measured from the mean low water.

* * * * *

PART 195—TRANSPORTATION OF HAZARDOUS LIQUIDS BY PIPELINE

6. The authority citation for 49 CFR part 195 continues to read as follows:

Authority: 30 U.S.C. 185(w)(3), 49 U.S.C. 5103, 60101 et seq., and 49 CFR 1.97.

§ § 195.1, 195.246, 195.248, and 195.413 [Amended]

7. In part 195, remove the words “Gulf of Mexico” and add, in their place, “Gulf of America” in the following places:

a. Section 195.1(a)(4)(iii) and (b)(4);

b. Section 195.246(b);

c. Section 195.248(a) and (b) introductory text; and

d. The heading of § 195.413 and § 195.413(a) and (b).

9. In § 195.2:

a. Remove the definition of “Gulf of Mexico and its inlets”; and

b. Add the definition of “Gulf of America and its inlets” in alphabetical order.

The addition reads as follows:

§ 195.2 Definitions.

* * * * *

Gulf of America and its inlets means the waters from the mean high water mark of the coast of the Gulf of America and its inlets open to the sea (excluding rivers, tidal marshes, lakes, and canals) seaward to include the territorial sea and Outer Continental Shelf to a depth of 15 feet (4.6 meters), as measured from the mean low water.

* * * * *

Issued in Washington, DC, on May 15, 2025, under the authority delegated in 49 CFR 1.97.
Benjamin D. Kochman,
Acting Administrator.

[FR Doc. 2025-08988 Filed 5-19-25; 8:45 am]

BILLING CODE 4910-60-P